DEPARTMENT OF ENERGY

Federal Energy Regulatory Commission

[Project No. 13298-000]

Alaska Village Electric Cooperative; Notice of Preliminary Permit Application Accepted for Filing and Soliciting Comments, Motions To Intervene, and Competing Applications

January 8, 2009.

On October 9, 2008, Alaska Village Electric Cooperative filed an application, pursuant to section 4(f) of the Federal Power Act, proposing to study the feasibility of the Port Clarence Hydrokinetic Project (Port Clarence), located in Port Clarence, within an Unorganized Borough, between the communities of Teller and Brevig Mission, Alaska. The project uses no dam or impoundment.

The proposed Port Clarence project would consist of: (1) 2 proposed submerged Ocean Renewable horizontal axis crossflow turbines, with a total installed capacity of 300 kilowatts, (2) a proposed 6.5-mile-long, 7,200/12,400-kilovolt transmission line, and (3) appurtenant facilities. The project is estimated to have an annual generation of 1.3-gigawatt-hours, which would be sold to a local utility.

Applicant Contact: Mr. Brent Petrie, Alaska Village Electric Cooperative 4831 Eagle Street, Anchorage, AK 99503, phone: 907/565-5358.

FERC Contact: Patricia W. Gillis (202) 502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13298) in the docket number field to access the document. For assistance, call toll-free 1-866-208-3372.

Kimberly D. Bose,
Secretary.

[FR Doc. E9-702 Filed 1-14-09; 8:45 am]

BILLING CODE 6717-01-P